DEPARTMENT OF COMMERCE

National Oceanic and Atmospheric Administration

[I.D. 010807C]

Pacific Fishery Management Council; Public Meeting

AGENCY: National Marine Fisheries Service (NMFS), National Oceanic and Atmospheric Administration (NOAA), Commerce.

ACTION: Notice of public meeting.

SUMMARY: The Pacific Fishery Management Council's (Council) Groundfish Management Team (GMT) will hold a working meeting, which is open to the public.

DATES: The GMT meeting will be held Tuesday, January 30, 2007, from 8:30 a.m. until business for the day is completed. The GMT meeting will reconvene Wednesday, January 31 2007, through Thursday, February 1, 2007, from 8:30 a.m. until business for the day is completed.

ADDRESSES: The GMT meeting will be held at the National Marine Fisheries Service, NOAA Western Regional Center's Sand Point Facility, Northwest Region Office, Building 1, HR Conference Room, 7600 Sand Point Way NE, Seattle, WA 98115-0070, (206) 526-6150.

Council address: Pacific Fishery Management Council, 7700 NE Ambassador Place, Suite 101, Portland, Oregon 97220-1384.

FOR FURTHER INFORMATION CONTACT: Mr. John DeVore, Groundfish Management Coordinator; telephone: 503-820-2280.

SUPPLEMENTARY INFORMATION: The primary purpose of the GMT working meeting is to elect officers (chair and vice-chair), update commercial bycatch models with new West Coast Groundfish Observer Program data, evaluate recreational impact projection models and consider methodology recommendations, consider recommendations for inseason adjustments to 2007 groundfish fisheries, evaluate the updated whiting fishery bycatch projection model, consider recommendations for implementing regulations for the shoreside whiting fishery for 2008 and beyond, plan 2007 GMT meetings and activities, and consider recommendations for developing a trawl individual quota (TIQ) program. The GMT will elect officers during a closed session at the start of the meeting on Tuesday, January 30 and will convene their open public meeting no later than 10:30 a.m. The GMT will discuss TIQ issues and recommendations on Thursday, February 1 regardless of progress on other agenda issues during the first two days of the meeting. The GMT may also address other assignments relating to groundfish management. No management actions will be decided by the GMT. The GMT's role will be development of recommendations for consideration by the Council at its March meeting in Sacramento, California.

Although non-emergency issues not contained in the meeting agenda may come before the GMT for discussion, those issues may not be the subject of formal GMT action during this meeting. GMT action will be restricted to those issues specifically listed in this notice and any issues arising after publication of this notice that require emergency action under Section 305 ) of the Magnuson-Stevens Fishery Conservation and Management Act, provided the public has been notified of the GMT's intent to take final action to address the emergency.

Special Accommodations

This meeting is physically accessible to people with disabilities. Requests for sign language interpretation or other auxiliary aids should be directed to Ms. Carolyn Porter at 503-820-2280 at least five days prior to the meeting date. Entry to the NOAA Western Regional Center's Sand Point Facility requires visitors to show a valid picture ID and register with security. A visitor's badge, which must be worn while at the NOAA Western Regional Center's Facility, will be issued to non-Federal employees participating in the meeting.

Dated: January 8, 2007.
Tracey L. Thompson,
Acting Director, Office of Sustainable Fisheries, National Marine Fisheries Service.

[FR Doc. E7-237 Filed 1-10-07; 8:45 am]

BILLING CODE 3510-22-S